DEPARTMENT OF HEALTH AND HUMAN SERVICES

Food and Drug Administration

[Docket No. 2004N-0564]

Agency Information Collection Activities; Announcement of Office of Management and Budget Approval; Temporary Marketing Permit Applications; Correction

AGENCY: Food and Drug Administration, HHS.

ACTION: Notice; correction.

SUMMARY: The Food and Drug Administration is correcting a notice that appeared in the Federal Register of July 26, 2005 (70 FR 43159). The document announced Office of Management Budget approval for State petitions for exemption from preemption. The document was published with an incorrect title and an incorrect docket number. This document corrects those errors.

FOR FURTHER INFORMATION CONTACT: Peggy Robbins, Office of Management Programs (HFA-250), Food and Drug Administration, 5600 Fishers Lane, Rockville, MD 20857, 301-827-1223.

SUPPLEMENTARY INFORMATION: In FR Doc. 05-14697, appearing on page 43159 in the Federal Register of Tuesday, July 26, 2005, the following corrections are made:

1. On page 43159, in the third column, in the heading of the document, “[Docket No. 2004N-0565]” is corrected to read “[Docket No. 2004N-0564]”.

2. On page 43159, in the third column, in the heading of the document, “Agency Information Collection Activities; Announcement of Office of Management and Budget Approval; State Petitions for Exemption From Preemption” is corrected to read “Agency Information Collection Activities; Announcement of Office of Management and Budget Approval; Temporary Marketing Permit Applications”.

3. On page 43159, in the third column, in the SUMMARY section of the document, beginning in the fourth line, “State Petitions for Exemption From Preemption” is corrected to read “Temporary Marketing Permit Applications”.

Dated: July 27, 2005.
Jeffrey Shuren,
Assistant Commissioner for Policy.

[FR Doc. 05-15369 Filed 8-2-05; 8:45 am]

BILLING CODE 4160-01-S